DEPARTMENT OF HEALTH AND HUMAN SERVICES

Substance Abuse and Mental Health Services Administration

Center for Mental Health Services; Notice of Meeting

Pursuant to Public Law 92-463, notice is hereby given that the Substance Abuse and Mental Health Services Administration (SAMHSA), Center for Mental Health Services (CMHS) National Advisory Council (NAC) will meet on August 24, 2016, from 9:00 a.m. to 5:00 p.m. E.D.T. The NAC will convene in both open and closed sessions.

The closed portion of the meeting will include discussion and evaluation of grant review applications by SAMHSA's Initial Review Groups, and involve an examination of confidential financial and business information as well as personal information concerning the applicants. Therefore, the meeting will be closed to the public from 9:00 a.m. to 12:00 p.m. as determined by the Principle Deputy Administrator, in accordance with title 5 U.S.C. 552b(c)(4) and (6). The remainder of this meeting will be open to the public from 12:00 p.m. to 5:00 p.m. to include presentations on Improving Inpatient Care and Family Caregiver Challenges and Solutions.

The meeting will be held at SAMHSA, 5600 Fishers Lane, 5th Floor, Conference Room A03, Rockville, MD 20857. Attendance by the public will be limited to space available. Interested persons may present data, information, or views, orally or in writing, on issues pending before the committee. Written submissions should be forwarded to the contact person (below) on or before August 10, 2016. Oral presentations from the public will be scheduled at the conclusion of the meeting.

The meeting can be accessed via telephone. To obtain the conference call-in number and access code, submit written or brief oral comments, or request special accommodations for persons with disabilities, please register at the SAMHSA's Advisory Committees Web site at http://nac.samhsa.gov/Registration/meetingsRegistration.aspx, or contact Pamela Foote (see contact information below).

Committee Name: Substance Abuse and Mental Health Services Administration Center for Mental Health Services National Advisory Council.

Dates/Time/Type: Wednesday, August 24, 2016, 9:00 a.m. to 12:00 p.m. EDT: CLOSED; Wednesday, August 24, 2016, 12:00 p.m. to 5:00 p.m. EDT: OPEN.

Place: SAMHSA, 5600 Fishers Lane, 5th Floor, Conference Room A03, Rockville, Maryland 20857.

Contact: Pamela Foote, Acting Designated Federal Official, SAMHSA CMHS National Advisory Council, 5600 Fishers Lane, Room 14E53C, Rockville, Maryland 20857, Telephone: (240) 276-1279, Fax: (301) 480-8491, Email: pamela.foote@samhsa.hhs.gov.

Summer King,
Statistician, Substance Abuse and Mental Health Services Administration.

[FR Doc. 2016-16829 Filed 7-15-16; 8:45 am]

BILLING CODE 4162-20-P